DEPARTMENT OF AGRICULTURE

Forest Service

Rocky Mountain Ranger District Access and Travel Management Plan EIS, Lewis and Clark National Forest; Glacier, Pondera, Teton, and Lewis & Clark Counties, MT

AGENCY: Forest Service, USDA.

ACTION: Notice of intent to prepare an environmental impact statement.

SUMMARY: The Forest Service will prepare an environmental impact statement on a proposal to develop a travel management plan to regulate motorized and non-motorized travel on roads and trails on lands administered by the Rocky Mountain Ranger District, also known as the Rocky Mountain Division of the Lewis and Clark National Forest. Approximately 392,000 acres of National Forest System lands are contained within the analysis area. Designated wilderness areas that are part of the Rocky Mountain Ranger District will not be included in this effort. The purpose of the project is to evaluate the impacts of motorized and non-motorized travel within the planning area, and to identify and select an action alternative that allows recreational use and enjoyment of the National Forest System lands, minimizes resource damage, reduces adverse effects to terrestrial and aquatic species, and mitigates or reduces conflicts between types of uses. Needs for securing additional legal public access routes to reach National Forest System lands will be identified and discussed, but no decision will be made on acquiring specific routes.

DATES: Comments concerning the scope of the analysis should be received on or before 45 days after publication of this notice in the Federal Register.

ADDRESSES: Send written comments to Rick Prausa, Forest Supervisor, Lewis and Clark National Forest, 1101 15th Street, North, Box 869, Great Falls, MT 59401. People sending comments electronically can do so by putting “Rocky Mountain Front Travel Plan” on the subject line of their e-mail to r1 lewisclark comments@fs.fed.us.

FOR FURTHER INFORMATION CONTACT: Dick Schwecke, EIS Team Leader (406) 791-7700.

SUPPLEMENTARY INFORMATION: This project addresses travel management planning on one of the seven mountain ranges managed partly or entirely by the Lewis and Clark National Forest. The Rocky Mountain Ranger District project includes approximately 392,000 acres, which is about 21% of the Lewis and Clark National Forest. Approximately 385,900 acres of designated wilderness areas that are part of the Rocky Mountain Ranger District will not be included in this effort. The purpose of this project is to evaluate the impacts of motorized and non-motorized travel on existing roads and trails within the planning area. The Forest Service intends to identify action alternatives that provide for public access, use, and enjoyment of the Lewis and Clark National Forest, while also minimizing resource damage, reducing adverse effects to terrestrial and aquatic species, and mitigating or reducing conflicts between types of uses. The project is intended to focus on identifying the types of use and season of use that would be appropriate on roads, trails, and specific areas within the mountain range to be analyzed.

Public Involvement. The Forest Service will be seeking information, comments and assistance from Federal, State and local agencies and other individuals or organizations who may be interested in, or affected by, the proposed action. Comments received will be included in the documentation for the EIS. The public is encouraged to take part in the process and is encouraged to visit with Forest Service officials at any time during the analysis and prior to the decision. While public participation in this analysis is welcome at any time, comments received within 45 days of the publication of this notice will be especially useful in the preparation of the Draft EIS. The scoping process will include identifying: potential issues, significant issues to be analyzed in depth, alternatives to the proposed action, and potential environmental effects of the proposal and alternatives.

Estimated Dates for Filing. The Draft EIS for the Rocky Mountain Ranger District Access and Travel Management Plan is expected to be available for public review by March 2003. The comment period on the draft EIS will be 45 days. It is very important that those interested in the management of this area participate at that time. The final EIS is scheduled to be completed by October 2003. In the final EIS, the Forest Service is required to respond to comments received during the comment period that pertain to the environmental consequences discussed in the draft EIS and applicable laws, regulations, and policies considered in making a decision regarding the proposal.

The Reviewers Obligation to Comment. The Forest Service believes it is important to give reviewers notice at this early stage of several court rulings related to public participation in the environmental review process. First, reviewers of draft environmental impact statements must structure their participation in the environmental review of the proposal so that it is meaningful and alerts an agency to the review's position and contentions. (Vermont Yankee Nuclear Power Corp. v. NRDC, 435 U.S. 519, 553 (1978). Also, environmental objections that could be raised at the draft environmental impact statement stage but that are not raised until after completion of the final environmental impact statement may be waived or dismissed by the courts. (Wisconsin Heritages, Inc. v. Harris, 490 F. Supp. 1334, 1338 (E.D. Wis. 1980)). Because of these court rulings, it is very important that those interested in this proposed actions participate by the close of the 45-day comment period so that substantive comments and objects are made available to the Forest Service at a time when it can meaningfully consider them and respond to them in the final environmental impact statements.

To assist the Forest Service in identifying and considering issues and concerns on the proposed actions, comments on the draft environmental impact statements should be as specific as possible. It is also helpful if comments refer to specific pages or chapters of the draft statements. Comments may also address the adequacy of the draft environmental impact statements or the merits of the alternatives formulated and discussed in the statements. Reviewers may wish to refer to the Council on Environmental Quality Regulations for implementing the procedural provisions of the National Environmental Policy Act at 40 CFR 1503.3 in addressing these points.

Comments on the draft EIS should be directed to the responsible official: Rick Prausa, Forest Supervisor, Lewis and Clark National Forest, 1101 15th Street North, Great Falls, MT 59401.

Dated: August 19, 2002.
Rick Prausa,
Forest Supervisor.

[FR Doc. 02-21540 Filed 8-22-02; 8:45 am]

BILLING CODE 3410-11-M